DEPARTMENT OF JUSTICE

Notice of Lodging of Modification To Consent Decree Under Comprehensive Environmental Response, Compensation, and Liability Act

Notice is hereby given that on June 30, 2016, a proposed modification (“Modification”) to the consent decree in United States v. City of Newburgh, et al., Civil Action No. 08 Civ. 7378, was lodged with the United States District Court for the Southern District of New York.

The Modification resolves the claims of the United States under sections 107 and 113 of the Comprehensive Environmental Response, Compensation, and Liability Act of 1980, as amended, 42 U.S.C. 9607 and 9613, against 34 potentially responsible parties (the “New Settlers”) who arranged for scrap metal containing hazardous substances to be transported to the Consolidated Iron and Metal Company Superfund Site for treatment or disposal. The site is a former junkyard and scrap metal processing facility located in the Newburgh, New York. Consolidated Iron and Metal Company, Inc., now defunct, operated the facility from the 1950s until 1999. Consolidated, while processing scrap metal materials, contaminated the site with hazardous substances, including lead, polychlorinated biphenyls and volatile organic compounds.

After the consent decree became effective, the five defendants who signed the consent decree (the “Original Settlers”) reached settlements with the New Settlers. As permitted by the consent decree, the Original Settlers presented the settlements to the Environmental Protection Agency for potential inclusion in the consent decree by amendment or separate agreement, with the net proceeds to be divided between the United States and the Defendants. EPA has agreed to inclusion of the settlements with the New Settlers.

The total net proceeds from these settlements will be $717,070. In accordance with the consent decree, the Modification provides for the New Settlers to pay $437,078 to the United States and $279,992 to the Original Settlers. The New Settlers will receive contribution protection and a covenant not to sue from the United States.

The publication of this notice opens a period for public comment on the Modification. Comments should be addressed to the Assistant Attorney General, Environment and Natural Resources Division, and should refer to United States v. City of Newburgh, et al., D.J. Ref. 90-11-3-07979/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Modification may be examined and downloaded at this Justice Department Web site: https://www.justice.gov/enrd/consent-decrees. We will provide a paper copy of the Modification upon written request and payment of reproduction costs. Please mail your request and payment to: Consent Decree Library, U.S. DOJ—ENRD, P.O. Box 7611, Washington, DC 20044-7611.

Please enclose a check or money order for $10.75 (25 cents per page reproduction cost) payable to the United States Treasury. For a paper copy without the exhibits and signature pages, the cost is $1.00.

Robert E. Maher, Jr.,
Assistant Section Chief, Environmental Enforcement Section, Environment and Natural Resources Division.

[FR Doc. 2016-16294 Filed 7-8-16; 8:45 am]

BILLING CODE 4410-15-P